DEPARTMENT OF THE TREASURY

Submission for OMB Review; Comment Request

August 17, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 23, 2004 to be assured of consideration.

Internal Revenue Service (IRS)

OMB Number: 1545-1618.

Form Number: IRS form 8863.

Type of Review: Revision.

Title: Education Credits (Hope and Lifetime Learning Credits).

Description: Section 25A of the Internal Revenue Code allows for two education credits, the Hope credit and the lifetime learning credit. Form 8863 will be used to compute the amount of allowable credits. The IRS will use the information on the form to verify that respondents correctly computed their education credits.

Respondents: Individuals or households.

Estimated Number of Respondents/Recordkeepers: 6,632,933.

Estimated Burden Hours Respondent/Recordkeeper:

| Minutes
Recordkeeping | 12
Learning about the law or the form | 8
Preparing the form | 32
Copying, assembling, and sending the form to the IRS | 33

Frequency of response: Annually.

Estimated Total Reporting/Recordkeeping Burden: 9,489,708 hours.

OMB Number: 1545-1886.

Revenue Procedure Number: Revenue Procedure 2004-35.

Type of Review: Extension.

Title: Late Spousal S Corp Consents in Community Property States.

Description: Revenue Procedure 2004-35 allows for the filing of certain late shareholder consents to be an S Corporation with the IRS Service Center.

Respondents: Business or other for-profit.

Estimated Number of Respondents: 500.

Estimated Burden Hours Per Respondent: 1 hour.

Frequency of response: On occasion.

Estimated Total Reporting Burden: 500 hours.

Clearance Officer: Paul H. Finger, (202) 622-4078, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-19325 Filed 8-23-04; 8:45 am]

BILLING CODE 4830-01-P